SECURITIES AND EXCHANGE COMMISSION

[File No. 500-1]

Global Stevia Corp.; Order of Suspension of Trading

May 16, 2014.

It appears to the Securities and Exchange Commission that there is a lack of complete and accurate information concerning the securities of Global Stevia Corp. (“Global Stevia”) because of questions that have been raised about the accuracy and reliability of publicly available information concerning, among other things, possible undisclosed control persons of Global Stevia. Global Stevia was a Nevada corporation based in Hammonds Plains, Nova Scotia, Canada, whose corporate status was revoked in January 2014. Its securities are quoted on OTC Link (previously “Pink Sheets”) operated by OTC Markets Group, Inc. under the ticker symbol “GSTV.”

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 16, 2014, through 11:59 p.m. EDT on May 30, 2014.

By the Commission.
Jill M. Peterson,
Assistant Secretary.

[FR Doc. 2014-11738 Filed 5-16-14; 11:15 am]

BILLING CODE 8011-01-P